DEPARTMENT OF COMMERCE

International Trade Administration

[C-427-819, C-428-829, C-421-809, C-412-821]

Low Enriched Uranium From France, Germany, the Netherlands, and the United Kingdom: Extension of Time Limit for Preliminary Determinations in Countervailing Duty Investigations

AGENCY: Import Administration, International Trade Administration, Department of Commerce.

ACTION: Notice of extension of time limit for preliminary determinations in countervailing duty investigations.

SUMMARY: The Department of Commerce is extending the time limit of the preliminary determinations in the countervailing duty (CVD) investigations of low enriched uranium from France, Germany, the Netherlands, and the United Kingdom from March 2, 2001 until no later than May 7, 2001. This extension is made pursuant to section 703(c)(1)(B) of the Tariff Act of 1930, as amended by the Uruguay Round Agreements Act.

EFFECTIVE DATE: February 21, 2001.

FOR FURTHER INFORMATION CONTACT: Michael Grossman (France) at (202) 482-3146; Robert Copyak (Germany) at (202) 482-2209; Stephanie Moore (the Netherlands) at (202) 482-3692; and Eric B. Greynolds (the United Kingdom) at (202) 482-6071, Office of AD/CVD Enforcement VI, Group II, Import Administration, U.S. Department of Commerce, Room 4012, 14th Street and Constitution Avenue, NW., Washington, DC 20230.

SUPPLEMENTARY INFORMATION:

Applicable Statute and Regulations

Unless otherwise indicated, all citations to the statute are references to the provisions effective January 1, 1995, the effective date of the amendments made to the Tariff Act of 1930 (the Act) by the Uruguay Round Agreements Act. In addition, unless otherwise indicated, all citations to the Department's regulations are to the regulations codified at 19 CFR part 351 (2000).

Extension of Due Date for Preliminary Determinations

On December 27, 2000, the Department of Commerce (the Department) initiated the CVD investigations of low enriched uranium from France, Germany, the Netherlands, and the United Kingdom. See Notice of Initiation of Countervailing Duty Investigations: Low Enriched Uranium from France, Germany, the Netherlands, and the United Kingdom, 66 FR 1085 (January 5, 2001). Currently, the preliminary determinations are due no later than March 2, 2001. However, pursuant to section 703(c)(1)(B) of the Act, we have determined that these investigations are “extraordinarily complicated” and are therefore extending the due date for the preliminary determinations to no later than May 7, 2001.

Under section 703(c)(1)(B), the Department can extend the period for reaching a preliminary determination until not later than the 130th day after the date on which the administering authority initiates an investigation if:

(B) The administering authority concludes that the parties concerned are cooperating and determines that—

(i) The case is extraordinarily complicated by reason of—

(I) The number and complexity of the alleged countervailable subsidy practices;

(II) The novelty of the issues presented;

(III) The need to determine the extent to which particular countervailable subsidies are used by individual manufacturers, producers, and exporters; or

(IV) The number of firms whose activities must be investigated; and

(ii) Additional time is necessary to make the preliminary determination.

Regarding the first requirement, we find that in each case all concerned parties are cooperating. Regarding the second requirement, we find that each of these four cases is extraordinarily complicated for the following reasons.

France

The French CVD investigation is extraordinarily complicated because of the novelty of the issues presented. We are investigating an allegation that the Government of France through its national electric utility, Electricite de France, purchased uranium from the producer of the subject merchandise at prices that constitute “more than adequate remuneration” under section 771(5)(E)(iv) of the Act. This is a novel issue because this is the first time the Department has investigated this type of subsidy allegation.

Germany, the Netherlands, and the United Kingdom

These three investigations are extraordinarily complicated because of the novelty of the issue presented. Petitioners have alleged that a single cumulative CVD rate applicable to all of Urenco Ltd.'s operations in Germany, the Netherlands, and the United Kingdom should be applied. Urenco Ltd. is the holding company for a group of companies located in Germany, the Netherlands, and the United Kingdom which produce enriched uranium for commercial sale. The Urenco Group was created in 1971, pursuant to the Treaty of Almelo, signed by the governments of Germany, the Netherlands and the United Kingdom. Therefore, the Department is investigating, and must determine, whether the subsidies provided by the three Treaty of Almelo countries to the Urenco Group's operations in Germany, the Netherlands, and the United Kingdom should be attributed to the sales of all of Urenco's international operations because Urenco is an “international consortium” under section 701(d) of the Act. To date, the provisions of section 701(d) have never been used in any CVD investigation or administrative review. Thus, we determine this to be a novel issue.

Accordingly, we deem these four investigations to be extraordinarily complicated and determine, with regard to the third requirement noted above, that additional time is necessary to make the preliminary determinations. Therefore, pursuant to section 703(c)(1)(B) of the Act, we are postponing the preliminary determinations in these investigations to no later than May 7, 2001.

This notice is published pursuant to section 703(c)(2) of the Act. Effective January 20, 2001, Bernard T. Carreau is fulfilling the duties of the Assistant Secretary for Import Administration.

Dated: February 9, 2001.
Bernard T. Carreau,
Deputy Assistant Secretary, AD/CVD Enforcement II.

[FR Doc. 01-4282 Filed 2-20-01; 8:45 am]

BILLING CODE 3510-DS-P